DEPARTMENT OF HOMELAND SECURITY

Federal Emergency Management Agency

44 CFR Part 67

[ Docket No. FEMA-B-7767]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before June 9, 2008.

ADDRESSES: The corresponding preliminary Flood Insurance Rate Map (FIRM) for the proposed BFEs for each community are available for inspection at the community's map repository. The respective addresses are listed in the table below.

You may submit comments, identified by Docket No. FEMA-B-7767, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground: Effective | * Elevation in feet (NGVD) + Elevation in feet (NAVD) # Depth in feet above ground: Modified | Communities affected
Swain County, North Carolina, and Incorporated Areas
Adams Creek | Approximately 650 feet upstream of the confluence with Oconaluftee River | None | +1874 | Eastern Band of Cherokee Indians.
| Approximately 130 feet upstream of Red Clay Road | None | +2233
Alarka Creek | At the confluence with Little Tennessee River | None | +1710 | Unincorporated Areas of Swain County.
| Approximately 1,100 feet upstream of Unahala Creek Road (State Road 1138) | None | +2556
Bunches Creek | Approximately 150 feet upstream of the confluence with Raven Fork | +2384 | +2385 | Eastern Band of Cherokee Indians.
| Approximately 0.8 mile upstream of Bunches Creek Road | None | +3158
Conley Creek | At the confluence with Tuckasegee River | None | +1845 | Unincorporated Areas of Swain County.
| Approximately 1,900 feet upstream of Childers Barn Lane | None | +2113
Cooper Creek | At the confluence with Tuckasegee River | +1795 | +1792 | Unincorporated Areas of Swain County, Eastern Band of Cherokee Indians.
| Approximately 100 feet upstream of Issac Wiggins Road | None | +2057
Deep Creek | At the confluence with Tuckasegee River | +1741 | +1740 | Unincorporated Areas of Swain County, Town of Bryson City.
| Approximately 150 feet upstream of Access Road to Deep Creek Campgrounds | None | +1805
Goose Creek | At the upstream side of Goose Creek Road | None | +1855 | Eastern Band of Cherokee Indians.
| Approximately 1,050 feet upstream of Goose Creek Road | None | +1904
Jenkins Branch | At the confluence with Tuckasegee River | +1728 | +1727 | Town of Bryson City.
| Approximately 200 feet upstream of Eastside Drive | None | +1815
Kirkland Creek | At the confluence with Tuckasegee River | +1754 | +1751 | Unincorporated Areas of Swain County, Town of Bryson City.
| Approximately 100 feet upstream of Kirklands Creek Road (State Road 1164) | None | +2222
Little Tennessee River | At the North Carolina/Tennessee State boundary | None | +1088 | Unincorporated Areas of Swain County.
| Approximately 150 feet upstream of the Swain/Macon County boundary | None | +1857
Nantahala River | At the confluence with Little Tennessee River | None | +1710 | Unincorporated Areas of Swain County.
| At the Swain/Macon County boundary | None | +1985
Oconaluftee River | Approximately 1.0 mile upstream of the confluence with Raven Fork | None | +2056 | Unincorporated Areas of Swain County.
| Approximately 1.8 miles upstream of the confluence with Raven Fork | None | +2135
Pigeon Creek | Approximately 20 feet upstream of confluence with Raven Fork | None | +2257 | Eastern Band of Cherokee Indians.
| Approximately 0.7 mile upstream of the confluence with Raven Fork | None | +2717
Raven Fork | Approximately 1,650 feet upstream of Big Cove Road | None | +2638 | Eastern Band of Cherokee Indians.
| Approximately 0.5 mile upstream of Big Cove Road | None | +2663
Shepherd Creek | At the confluence with Kirkland Creek | None | +1844 | Unincorporated Areas of Swain County.
| Approximately 1.4 miles upstream of the confluence with Kirkland Creek | None | +2232
Silvermine Creek | At the confluence with Nantahala River | None | +1724 | Unincorporated Areas of Swain County.
| Approximately 100 feet upstream of Taylor Road (State Road 1104) | None | +2151
Straight Fork | Approximately 100 feet upstream of the confluence with Raven Fork | +2454 | +2455 | Eastern Band of Cherokee Indians.
| Approximately 1.0 mile upstream of the confluence with Raven Fork | None | +2558
Toot Hollow Branch | At the confluence with Tuckasegee River | +1735 | +1734 | Unincorporated Areas of Swain County, Town of Bryson City.
| Approximately 330 feet upstream of Monteith Road (State Road 1334) | None | +1806
Tuckasegee River | At the confluence with Little Tennessee River | None | +1710 | Unincorporated Areas of Swain County, Eastern Band of Cherokee Indians, Town of Bryson City.
| At the upstream side of U.S. 74/U.S. 441 | None | +1845
Wesser Creek | At the confluence with Conley Creek | None | +1984 | Unincorporated Areas of Swain County.
| Approximately 200 feet upstream of Estes Drive | None | +2052
Wesser Creek (into Nantahala River) | At the confluence with Nantahala River | None | +1711 | Unincorporated Areas of Swain County.
| Just downstream of the confluence of Right Fork Wesser Creek | None | +2201
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Eastern Band of Cherokee Indians
Maps are available for inspection at Ginger Lynn Welch Complex, 810 Acquoni Road, Cherokee, NC.
Town of Bryson City
Maps are available for inspection at Town of Bryson City Manager's Office, 45 Everett Street, Bryson City, NC.
Unincorporated Areas of Swain County
Maps are available for inspection at Swain County Mapping Department, 101 Mitchell Street, Bryson City, NC.

(Catalog of Federal Domestic Assistance No. 97.022, “Flood Insurance.”)

Dated: March 3, 2008.
Michael K. Buckley,
Deputy Assistant Administrator for Mitigation, Department of Homeland Security, Federal Emergency Management Agency.

[FR Doc. E8-4726 Filed 3-7-08; 8:45 am]

BILLING CODE 9110-12-P